DEPARTMENT OF COMMERCE

National Technical Information Service

Agency Information Collection Activities; Submission to the Office of Management and Budget (OMB) for Review and Approval; Revision of Currently Approved Information Collection; Comment Request; Limited Access Death Master File Certification Program Forms

AGENCY: National Technical Information Service (NTIS), Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 31, 2026.

ADDRESSES: Interested persons are invited to submit written comments by mail to Monica Voigt, IT Project Manager, Office of Program Management, National Technical Information Service, Department of Commerce or by email to mvoigt@ntis.gov or PRAcomments@doc.gov. Please reference OMB Control Number 0692-0013 in the subject line of your comments. Do not submit Confidential Business Information or otherwise sensitive or protected information.

FOR FURTHER INFORMATION CONTACT: Requests for additional information or specific questions related to collection activities should be directed to Monica Voigt, IT Project Manager, Office of Program Management, National Technical Information Service, Department of Commerce, 5301 Shawnee Road, Alexandria, VA 22312, email: mvoigt@ntis.gov or telephone: 703-605-6142.

SUPPLEMENTARY INFORMATION:

I. Abstract

Title of Information Collection: Limited Access Death Master File (LADMF)Certification Program Forms.

OMB Control Number: 0692-0013.

Form Number(s): NTIS FM161, NTIS FM101, NTIS FM100A, and NTIS FM100B:

(A) Limited Access Death Master File Certification Form (Certification Form) (NTIS FM 161)

(B) Limited Access Death Master File Accredited Conformity Assessment Body Application for Firewalled Status (Firewalled Status Application Form). (NTIS FM101)

(C) Limited Access Death Master File (LADMF) Accredited Conformity Assessment Body Systems Safeguards Attestation Form (ACAB Systems Safeguards Attestation Form) (NTIS FM100A)

(D) Limited Access Death Master File (LADMF) State or Local Government Auditor General (AG) or Inspector General (IG) Systems Safeguards Attestation Form (AG or IG Systems Safeguards Attestation Form) (NTIS FM100B)

This notice informs the public that the National Technical Information Service (NTIS) is requesting approval for revision of the above information collection for use in connection with the final rule for the “Certification Program for Access to the Death Master File,” 15 CFR part 1110. Under this revision, NTIS is requesting approval to consolidate its information collection instruments used in conjunction with the LADMF Certification Program. The Firewalled Status Application Form (NTIS FM101; OMB Control Number 0692-0015), the ACAB Systems Safeguards Attestation Form (NTIS FM100A; OMB Control Number 0692-0016), and the AG or IG Systems Safeguards Attestation Form (NTIS FM100B; OMB Control Number 0692-0016) will be consolidated with the Certification Form (NTIS FM161) under OMB Control Number 0692-0013 with a revised information collection title of “Limited Access Death Master File (LADMF) Certification Program Forms.” NTIS intends to submit requests to discontinue the use of OMB Control Number 0692-0015 and OMB Control Number 0692-0016 after this revision is approved. There are no substantive changes to the forms under this revision.

The final rule for the LADMF Certification Program was promulgated under Section 203 of the Bipartisan Budget Act of 2013, Public Law 113-67 (Act) and published on June 1, 2016 (81 FR 34882). The rule became effective on November 28, 2016 (15 CFR part 1110).

The Act prohibits the Secretary of Commerce (Secretary) from disclosing Death Master File (DMF) information during the three-year period following an individual's death (Limited Access DMF or LADMF), unless the person requesting the information has been certified to access the Limited Access DMF pursuant to certain criteria in a program that the Secretary establishes. The Secretary delegated the authority to carry out Section 203 to the Director of NTIS. The final rule requires that:

a. a Person, as defined in 15 CFR 1110.2, seeking access to the LADMF establish a legitimate fraud prevention interest or legitimate business purpose pursuant to a law, governmental rule, regulation, or fiduciary duty. The Certification Form (NTIS FM161) collects information that NTIS will use to evaluate whether the respondent qualifies to receive the LADMF under the rule.

b. a Person seeking certification or a Certified Person seeking renewal of a certification must submit a written attestation from an “Accredited Conformity Assessment Body” (ACAB), as defined in 15 CFR 1110.2, that such Person or Certified Person has information security systems, facilities and procedures in place to protect the security of the Limited Access DMF, as required under 15 CFR 1110.102(a)(2). The ACAB Systems Safeguards Attestation Form (NTIS FM100A) collects information based on an assessment by the ACAB conducted within three years prior to the date of the Person or Certified Person's submission of a completed certification statement under 15 CFR1110.101(a). This collection includes specific requirements of the final rule, which the ACAB must certify are satisfied, and the provision of specific information by the ACAB, such as the date of the assessment and the auditing standard(s) used for the assessment.

c. the ACAB must be independent of the Person or Certified Person seeking certification, unless it is a conformity assessment body which qualifies for “firewalled status” pursuant to 15 CFR 1110.502.

The Firewalled Status Application Form (NTIS FM101) collects information that NTIS will use to evaluate whether the respondent qualifies for “firewalled status” under the rule, and, therefore, can provide a written attestation in lieu of an independent ACAB's attestation. This information includes specific requirements of 15 CFR 1110.502(b), which the respondent ACAB must certify are satisfied, and the provision of specific information by the respondent ACAB, such as the identity of the Person or Certified Person that would be the subject of the attestation and the basis upon which the certifications were made.

d. under 15 CFR 1110.501(a)(2), a state or local government office of Auditor General (AG) or Inspector General (IG) and a Person or Certified Person that is a department or agency of the same state or local government, respectively, are not considered to be owned by a common “parent” entity under 15 CFR 1110.501(a)(1)(ii) for the purpose of determining independence, and attestation by the AG or IG is possible. The AG or IG Systems Safeguards Attestation Form (NTIS FM100B) is for the use of a state or local government AG or IG to attest on behalf of a state or local government department or agency Person or Certified Person. The AG or IG Systems Safeguards Attestation Form requires the state or local government AG or IG to attest that a Person seeking certification or a Certified Person seeking renewal of certification has information security systems, facilities and procedures in place to protect the security of the Limited Access DMF, as required under 15 CFR 1110.102(a)(2). The AG or IG Systems Safeguards Attestation Form collects information based on an assessment by the state or local government AG or IG conducted within three years prior to the date of the Person or Certified Person's submission of a completed certification statement under 15 CFR 1110.101(a). This collection includes specific requirements of the final rule, which the state or local government AG or IG must certify are satisfied, and the provision of specific information by the state or local government AG or IG, such as the date of the assessment.

II. Method of Collection

Electronic.

III. Data

OMB Control Number: 0692-0013.

Form Number(s): NTIS FM 161, NTIS FM101, NTIS FM100A, and NTIS FM100B.

Type of Review: Revision of a current information collection.

Affected Public: Individuals, households, or any Person seeking certification or a Certified Person seeking renewal of certification under the final rule for the “Certification Program for Access to the Death Master File,” and ACABs and state or local government Auditors General or Inspectors General attesting that a Person seeking certification or a Certified Person seeking renewal of certification under the final rule for the “Certification Program for Access to the Death Master File” has information security systems, facilities and procedures in place to protect the security of the Limited Access DMF, as required by the final rule.

| NTIS FM161 | NTIS FM101 | NTIS FM100A | NTIS FM100B
Estimated Number of Respondents | 260 | 65 | 250 | 30.
Estimated Time per Response | 3 hours | 1 hour | 3 hours | 3 hours.
Estimated Total Annual Burden Hours | 780 | 65 | 750 | 90.
Estimated Total Annual Cost to Public | $888,160 | $39,910 | $232,500 | $24,750.

Respondent's Obligation: Voluntary.

Legal Authority: Section 203 of the Bipartisan Budget Act of 2013, Public Law 113-67; 15 CFR part 1110.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this Information Collection Review (ICR). Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-01839 Filed 1-29-26; 8:45 am]

BILLING CODE 3510-04-P